DEPARTMENT OF AGRICULTURE

Commodity Credit Corporation

7 CFR Part 1410

RIN 0560-AF77

Conservation Reserve Program—Cropland Eligibility and Private Sector Technical Assistance

AGENCY: Commodity Credit Corporation, USDA.

ACTION: Proposed rule.

SUMMARY: The Commodity Credit Corporation (CCC) proposes a series of amendments to the Conservation Reserve Program (CRP) regulations. These proposed amendments would make certain orchard lands, vineyards, berry lands, and hay lands eligible for enrollment, provide for acquisition of private sector technical assistance, and make minor technical and clerical adjustments to the regulations. This action would allow producers greater flexibility in enrolling in the CRP, thereby allowing CCC greater flexibility in conducting the CRP, and provide enhanced environmental benefits under the CRP.

DATES: Comments must be submitted on or before February 4, 2002.

ADDRESSES: All comments concerning these proposed regulations should be either addressed to Robert Stephenson, Director, Conservation and Environmental Programs Division, USDA/FSA/CEPD/STOP 0513, 1400 Independence Avenue, SW., Washington, DC 20250-0513 or sent electronically to: crprule@wdc.usda.gov.

FOR FURTHER INFORMATION CONTACT: Robert Stephenson, (202) 720-6221.

SUPPLEMENTARY INFORMATION:

Executive Order 12866

This proposed rule is issued in conformance with Executive Order 12866 and has been determined to be significant has been reviewed by the Office of Management and Budget (OMB).

Regulatory Flexibility Act

It has been determined that the Regulatory Flexibility Act is not applicable to this rule since the Commodity Credit Corporation (CCC) is not required by 5 U.S.C. 553 or any other provision of law to publish a notice of proposed rulemaking with respect to the subject matter of this rule.

Environmental Evaluation

It has been determined by an environmental evaluation that this action will have no significant impact on the quality of the human environment. Therefore, neither an environmental impact assessment nor an Environmental Impact Statement is needed.

Executive Order 12988

This proposed rule has been reviewed in accordance with Executive Order 12988. This proposed rule, if adopted, would not be retroactive and would not pre-empt State laws. Before any judicial action may be taken with respect to the provisions of the proposed rule, if adopted, administrative remedies at 7 CFR parts 11 and 780 would have to be exhausted.

Executive Order 12372

This program is not subject to the provisions of Executive Order 12372, which requires intergovernmental consultation with State and local officials. See the notice related to 7 CFR part 3015, subpart V, published at 48 FR 29115 (June 24, 1983). Unfunded Mandates

Title II of the Unfunded Mandate Reform Act of 1995 (UMRA), Pub. L. 104-4, establishes requirements for Federal agencies to assess the effects of their regulatory actions on State, local, and tribal governments and the private sector. Under Section 202 of the UMRA, agencies generally must prepare a written statement, including a cost-benefit assessment, for proposed and final rules with “Federal mandates” that may result in expenditures to State, local, or tribal governments, in the aggregate, or the private sector, of $100 million or more in any 1 year. When such a statement is needed for a rule, section 205 of the UMRA generally requires agencies to identify and consider a reasonable number of regulatory alternatives and adopt the least costly, more cost-effective or least burdensome alternative that achieves the objectives of the rule. This rule contains no Federal mandates (under the regulatory provisions of Title II of the UMRA) for State, local, and tribal governments or the private sector. Therefore, this rule is not subject to the requirements of Sections 202 and 205 of the UMRA.

Federal Domestic Assistance Program

The title and number of the Federal Domestic Assistance Program, as found in the Catalog of Federal Domestic Assistance, to which this rule applies, is the Conservation Reserve Program—10.069.

Paperwork Reduction Act

The Office of Management and Budget has approved the information collection requirements contained in the current regulations at 7 CFR part 1410 under provisions of 44 U.S.C. Chapter 33 and OMB Control Number 0560-0125, effective through October 31, 2002.

Background

The purpose of the Conservation Reserve Program (CRP) is to cost-effectively assist owners and operators in conserving and improving soil, water, and wildlife resources by converting highly erodible and other environmentally sensitive acreage normally devoted to the production of agricultural commodities to a long-term vegetative cover. CRP participants enter into contracts for 10 to 15 years in exchange for annual rental payments and cost-share assistance for installing certain conservation practices. In determining the amount of annual rental payments to be paid, CCC considers, among other things, the amount necessary to encourage owners or operators of eligible cropland to participate in the CRP. Applicants submit offers in such a manner as the Secretary prescribes. The maximum rental payments CCC will pay reflect site-based soil productivity, prevailing local cash equivalent rental rates, maintenance costs, and other factors. Offers by producers who request rental payments greater than the amount CCC is willing to pay for their soil type are automatically rejected by CCC. Except for the continuous signup process, remaining offers are evaluated for possible acceptance based on a comparison of environmental benefits indicators with the rental payment cost. The continuous signup process does not include an evaluation based on environmental benefits indicators because only those practices designed to obtain high environmental benefits are eligible to be offered during the continuous signup. Acreage determined eligible and suitable to be devoted to continuous signup practices by the Secretary is automatically accepted in the CRP provided all other eligibility requirements are met.

Program Changes

Proposed changes fall into three general categories: (1) Changes to § 1410.6, Eligible Land; (2) permitting CCC to acquire private sector technical assistance; and (3) minor editorial, technical, and conforming amendments.

Section 1410.6 Eligible Land

Generally, by statute, CRP land enrolled in the program must be cropland, but the rules for the program provide that the crop history must generally be a history of production of tillable crops. That limitation provides for focusing the CRP on the conversion of land with the most intensive uses to a cover crop. Also, this focus emphasizes the “reserve” nature of the program and can provide a greater amount of public benefit by producing savings in other programs as recompense for the monies spent on this program. This rule, however, proposes that for the continuous sign-ups held for the CRP and for enrollments in the Conservation Reserve Enhancement Program (CREP), certain orchard lands, vineyards, berry fields, and hay land be permitted to be enrolled. These lands can provide significant benefits in those special sign-ups which involve special, often narrow (geographically) practices such as conservation measures along stream banks where these enrollments may even be more beneficial than the enrollment of normal cropland. Such an expansion of the eligibility criteria for the program had been requested by a number of State governments involved in CREP agreements.

Private Sector Technical Assistance

Currently, technical assistance for running the CRP is generally conducted through the auspices of the Natural Resources Conservation Service (NRCS) and a number of decisions which may be needed for the CRP are by regulation committed to the NRCS. However, because of funding and other considerations it may be necessary for some determinations, from time to time, to be made using private contractors or other agencies. Accordingly, this rule proposes that some references to the NRCS in the regulations be replaced or amended. This change will allow greater flexibility in running the program even though no fundamental change in program operations is contemplated at this time. No changes for the participant are anticipated regarding eligibility or paperwork. These adjustments to the regulations are found at 7 CFR 1410.1(f), 1410.2, 1410.3(b), 1410.6(b)(2)(i), 1410.6(b)(2)(iv), and 1410.22.

Minor Editorial, Technical, and Conforming Amendments

CCC further proposes a number of minor amendments for clarity at §§ 1410.4, 1410.20, and 1410.62(f) and to more closely track the CRP legislation. These modifications involve: (1) Adding a specific reference to the statutory requirement that allowing greater than a certain maximum level of CRP participation in a county requires a finding that producers are having trouble complying with conservation plans; (2) changing the limit on how much land one farm can have in both the CRP and in the Production Flexibility Program to that based on the amount of the farm's “agricultural use” land rather than the farm's “cropland”; and (3) specifying that only that land which was “cropland” at the start of the contract will be treated as “cropland” during the duration of the contract. Also, § 1410.1(g), which currently provides for the development by State FSA committees of State-specific evaluation processes to rank acreage, is removed because no State FSA committee has developed a State-specific evaluation process for bid acceptance for over 2 years.

List of Subjects in 7 CFR Part 1410

Administrative practices and procedures, Agriculture, Conservation plan, Natural resources, Technical assistance.

For reasons set out in the preamble, 7 CFR part 1410 is proposed to be amended as follows:

PART 1410—CONSERVATION RESERVE PROGRAM

1. The authority citation for 7 CFR part 1410 continues to reads as follows:

Authority: 15 U.S.C. 714b and 714c; 16 U.S.C. 3801-3847.

2. In § 1410.1:

a. Paragraphs (a) and (f) are revised;

b. Paragraph (g) is removed; and

c. Paragraphs (h) through (k) are redesignated as paragraphs (g) through (j).

The revisions read as follows:

§ 1410.1 Administration.

(a) The regulations in this part will be administered under the general supervision and direction of the Executive Vice President, Commodity Credit Corporation (CCC), through the Deputy Administrator for Farm Programs (Deputy Administrator) of the Farm Service Agency (FSA). In the field, the regulations in this part will be administered by the State and county FSA committees (“State committees” and “county committees”, respectively). Further, CCC may enter into agreements to perform technical assistance with the private sector; however, national level concurrence between FSA and the Natural Resource Conservation Service (NRCS) or Forest Service (FS), as appropriate, is required for CCC to acquire private sector technical assistance, except when NRCS or FS cannot provide technical assistance due to funding or other restrictions. Further, private sector costs should be comparable when practicable, to the cost of technical assistance provided by NRCS and FS.

* * * * *

(f) Notwithstanding other provisions of the preceding paragraphs of this section, the Erosion Index (EI), suitability of land for permanent vegetative or water cover, factors for determining the likelihood of improved water quality, and adequacy of the planned practice to achieve desired objectives shall be determined by the Natural Resource Conservation Service (NRCS), or any other technical authority approved by CCC. Any CCC-approved technical authority shall utilize the NRCS Field Office Technical Guide (FOTG), or other CRP guidelines established by CCC.

* * * * *

3. In § 1410.2, the definition of technical assistance is revised to read as follows:

§ 1410.2 Definitions.

* * * * *

Technical assistance means the assistance provided in connection with the CRP to owners or operators by NRCS, FS, or another source as approved by CCC in developing conservation plans, determining the eligibility of land and practices, and implementing and certifying conservation practices, and forestry issues.

* * * * *

4. Section 1410.3 paragraph (b) is revised to read as follows:

§ 1410.3 General description.

* * * * *

(b) A participant must obtain a conservation plan prepared in accordance with NRCS planning policy for eligible acreage, available in the National Conservation Planning Handbook and the General Manual at the Natural Resource Conservation Service State offices and field offices.

* * * * *

5. Section 1410.4 is revised to read as follows:

§ 1410.4 Maximum county acreage.

(a) Except as provided in paragraph (b) of this section, the maximum acreage which may be placed in the CRP and the WRP may not exceed 25 percent of the total cropland in the county; further, no more than 10 percent of the cropland in the county may be subject, in the aggregate, to a CRP or WRP easement;

(b) The restrictions in paragraph (a) of this section may be waived if CCC determines that such action would not adversely affect the local economy of the county, and also that operators in the county are having difficulties complying with conservation plans directed under part 12 of this title;

(c) These restrictions on participation shall be in addition to any other restriction imposed by law.

6. In § 1410.6, revise paragraphs (a)(2)(ii), (b)(2)(i) introductory text, (b)(2)(iv), (b)(4), (b)(8) and (b)(9) and add a new paragraph (b)(12) to read as follows:

§ 1410.6 Eligible land.

(a) * * *

(2) * * *

(ii) As determined by CCC, is or will be planted to trees, and such other woody and non-woody vegetation as appropriate, for water quality purposes in or near riparian areas or in other areas where, as determined by CCC in accordance with the FOTG, the same or similar water quality enhancement benefits will be obtained; or

* * * * *

(b) * * *

(2)(i) Be a field which has evidence of scour erosion caused by out-of-bank flows of water, as determined by CCC in accordance with the FOTG. In addition such land must:

* * * * *

(iv) Be planted to an appropriate tree species, unless tree planting is determined by CCC to be inappropriate under provisions of the FOTG, in which case the eligible cropland shall be devoted to another acceptable permanent vegetative cover identified as appropriate in the FOTG; or

* * * * *

(4) Be devoted to certain covers, which are established and maintained in accordance with the FOTG and other guidelines approved by CCC provided such acreage is not required to be maintained as such under any life span obligations; or

* * * * *

(8) Be within a public wellhead protection area or in an approved Hydrologic Unit Area as determined by the NRCS or other delegatee as determined by NRCS;

(9) Be within a designated conservation priority area as determined by CCC; or

* * * * *

(12) is cropland devoted to orchard lands, vineyards, berry land, or hay lands, as determined by CCC, but will only be eligible for continuous signup practices authorized by § 1410.30 or practices authorized by § 1410.50(b).

* * * * *

7. Section 1410.20, paragraph (a)(4)(ii), is revised to read as follows:

§ 1410.20 Obligations of participant.

(a) * * *

(4) * * *

(ii) Reduce production flexibility contract acres enrolled under part 1412 of this chapter or CRP acres enrolled under this part so that the total of such acres does not exceed the total agricultural use land on the farm;

* * * * *

8. Section 1410.22 paragraphs (a) and (e) are revised to read as follows:

§ 1410.22 Conservation plan.

(a) The applicant shall obtain a conservation plan which is developed in accordance with NRCS conservation planning policy and is approved by the conservation district for the land to be entered in the CRP. If the conservation district declines to review the conservation plan, such approval may be waived by CCC.

* * * * *

(e) All conservation plans and revisions of such plans shall be made in accordance with the NRCS conservation planning policy and be subject to the approval of CCC.

9. Section 1410.62, paragraph (f), is revised to read as follows:

§ 1410.62 Miscellaneous.

* * * * *

(f) Cropland enrolled in CRP shall be classified as cropland for the time period enrolled in CRP and, after the time period of enrollment, may be removed from such classification upon a determination by the county committee that such land no longer meets the conditions identified in part 718 of this title.

* * * * *

Signed at Washington, D.C., on November 29, 2001.
James R. Little,
Executive Vice President, Commodity Credit Corporation.

[FR Doc. 01-30213 Filed 12-5-01; 8:45 am]

BILLING CODE 3410-05-P